DEPARTMENT OF ENERGY

Federal Energy Regulatory Commission

[Project No. 2816-050]

North Hartland, LLC; Notice of Technical Meeting

a. Date and Time of Meeting: Monday, June 27, 2022 at 10:00 a.m. Eastern Daylight Time via Conference Call.

b. FERC Contact: Bill Connelly at william.connelly@ferc.gov or (202) 502-8587.

c. Purpose of Meeting: On April 28, 2022, Commission staff requested formal consultation with the U.S. Fish and Wildlife Service (FWS) pursuant to section 7 of the Endangered Species Act (ESA), for the relicensing of the North Hartland Hydroelectric Project No. 2816, located on the Ottauquechee River in Windsor County, Vermont. On June 2, 2022, the FWS contacted staff via email to request a meeting to discuss Commission staff's request for formal consultation on federally endangered dwarf wedgemussels. Commission staff is meeting with the FWS via conference call to discuss the project's effects on dwarf wedgemussels.

d. Proposed Agenda:

(1) Introduction of participants;

(2) Commission staff explain the purpose of the meeting;

(3) Participants discuss existing data about the current and historical distribution of dwarf wedgemussel within the lower Ottauquechee and Connecticut Rivers;

(4) Participants discuss proposed project operation and alternatives to the proposed action; and

(5) Participants discuss additional issues relating to ESA consultation.

e. A summary of the meeting will be prepared and filed in the Commission's public file for the project.

f. All local, state, and federal agencies, Indian tribes, and other interested parties are invited to participate. If interested, please contact Bill Connelly at william.connelly@ferc.gov, or (202) 502-8587 by June 22, 2022, to receive specific instructions on how to participate.

Dated: June 8, 2022.
Kimberly D. Bose,
Secretary.

[FR Doc. 2022-12765 Filed 6-13-22; 8:45 am]

BILLING CODE 6717-01-P